DEPARTMENT OF COMMERCE

National Oceanic and Atmospheric Administration

RIN 0648-XE384

Endangered Species; File No. 19496

AGENCY: National Marine Fisheries Service (NMFS), National Oceanic and Atmospheric Administration (NOAA), Commerce.

ACTION: Notice; receipt of application.

SUMMARY: Notice is hereby given that Mariana Fuentes, Florida State University, 532 Hart Street, Tallahassee, FL 32301, has applied in due form for a permit to take loggerhead (Caretta caretta), Kemp's ridley (Lepidochelys kempii), green (Chelonia mydas), and hawksbill (Eretmochelys imbricata) sea turtles for purposes of scientific research.

DATES: Written, telefaxed, or email comments must be received on or before February 12, 2016.

ADDRESSES: The application and related documents are available for review by selecting “Records Open for Public Comment” from the “Features” box on the Applications and Permits for Protected Species (APPS) home page, https://apps.nmfs.noaa.gov, and then selecting File No. 19496 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Arturo Herrera or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year permit to conduct year-round field activities in the Florida Big Bend Region to take, by capture or disturbance during vessel surveys, sea turtles to identify important foraging and developmental habitats. Vessel transect surveys would occur separately from capture efforts. Up to 1,225 sea turtles would be disturbed annually during vessel surveys for counts and observation to identify relative presence, abundance, and habitat use of turtles. Up to 480 sea turtles annually captured by hand, dip net or strike net would have the following procedures performed before release: Measure; weigh; blood, scute, and biopsy sampling; temporary carapace marking; satellite tagging; flipper passive integrated transponder tagging and/or photography/videography.

Dated: January 7, 2016.
Julia Harrison,
Chief, Permits and Conservation Division, Office of Protected Resources, National Marine Fisheries Service.

[FR Doc. 2016-00454 Filed 1-12-16; 8:45 am]

BILLING CODE 3510-22-P